DEPARTMENT OF COMMERCE

National Oceanic and Atmospheric Administration

RIN 0648-XD036

Marine Mammals; File No. 16591

AGENCY: National Marine Fisheries Service (NMFS), National Oceanic and Atmospheric Administration (NOAA), Commerce.

ACTION: Notice; issuance of permit.

SUMMARY: Notice is hereby given that a permit has been issued to Darlene Ketten, Ph.D., Woods Hole Oceanographic Institution, 266 Woods Hole Road, Woods Hole, MA 02543, to collect, import, export, and receive marine mammal parts for scientific research.

ADDRESSES: The permit and related documents are available for review upon written request or by appointment in the following office: Permits and Conservation Division, Office of Protected Resources, NMFS, 1315 East-West Highway, Room 13705, Silver Spring, MD 20910; phone (301) 427-8401; fax (301) 713-0376.

FOR FURTHER INFORMATION CONTACT: Amy Sloan or Jennifer Skidmore, (301) 427-8401.

SUPPLEMENTARY INFORMATION: On January 17, 2014, notice was published in the Federal Register (79 FR 3180) that a request for a permit to conduct research on marine mammals parts had been submitted by the above-named applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), the regulations governing the taking, importing, and exporting of endangered and threatened species (50 CFR parts 222-226), and the Fur Seal Act of 1966, as amended (16 U.S.C. 1151 et seq.).

The permit authorizes Dr. Ketten to annually collect, receive, import and export biological samples from 20 individual cetaceans and 20 individual pinnipeds of each species under NMFS jurisdiction. The purpose of the research is to study marine mammal hearing including calculating hearing frequency distributions, determining how marine mammal ears withstand pressure changes, and understanding how underwater noise affects marine mammal hearing. No takes of live animals, direct or indirect, are authorized by the permit. The permit expires on February 28, 2019.

In compliance with the National Environmental Policy Act of 1969 (42 U.S.C. 4321 et seq.), a final determination has been made that the activity proposed is categorically excluded from the requirement to prepare an environmental assessment or environmental impact statement.

As required by the ESA, issuance of this permit was based on a finding that such permit: (1) Was applied for in good faith; (2) will not operate to the disadvantage of such endangered species; and (3) is consistent with the purposes and policies set forth in section 2 of the ESA.

Dated: April 8, 2014.
Tammy C. Adams,
Acting Chief, Permits and Conservation Division, Office of Protected Resources, National Marine Fisheries Service.

[FR Doc. 2014-08349 Filed 4-11-14; 8:45 am]

BILLING CODE 3510-22-P